DEPARTMENT OF TRANSPORTATION

Federal Railroad Administration

[Docket Number FRA-2013-0014]

Petition for a Waiver of Compliance

In accordance with Part 211 of Title 49 Code of Federal Regulations (CFR), this document provides the public notice that Bombardier Transportation North America (BTNA) has petitioned the Federal Railroad Administration (FRA) for a waiver of compliance from certain provisions of the Federal railroad safety regulations contained at 49 CFR Part 242, Qualification and Certification of Conductors, at two of its maintenance operations. BTNA's first operation serves the Southern California Regional Rail Authority with locations in Los Angeles, Lancaster, and San Bernardino, CA. BTNA's second operation serves the South Florida Regional Transportation Authority in Miami, FL. BTNA services and maintains the commuter train equipment for these commuter rail lines, and Transportation Certification Services, Inc. administers BTNA's operating crew certification programs. FRA assigned the petition Docket Number FRA-2013-0014.

The conductor certification regulations provide that every train or yard crew, as defined in 49 CFR 218.5, Definitions, are required to have a certified conductor as a member of the crew and, in the case of a single person train or yard crew, the regulation provides that the employee must be dual-certified as a locomotive engineer and a conductor.

In its petition, BTNA states that virtually all of the employees responsible for equipment movements at the above-referenced facilities are certified locomotive engineers pursuant to 49 CFR Part 240, Qualification and Certification of Locomotive Engineers. In addition to the locomotive engineer training, the employees receive additional training to cover ground-switching duties. BTNA states that the additional training required under 49 CFR Part 242 would not increase the level of safety at these facilities and would create a cost burden for it.

In its petition, BTNA also notes that 49 CFR 242.123, Monitoring operational performance, requires that specific operating rule efficiency tests be performed on conductors in addition to the operational testing required under 49 CFR Part 240. Consequently, BTNA will conduct the operational testing required by 49 CFR 242.123 for all employees who are engaged in the movement of equipment at the above-referenced facilities.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 22, 2013 will be considered by FRA before final action is taken. Comments received after that date will be considered as far as practicable.

Anyone is able to search the electronic form of any written communications and comments received into our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on June 17, 2013.
Robert C. Lauby,
Deputy Associate Administrator for Regulatory and Legislative Operations.

[FR Doc. 2013-14893 Filed 6-20-13; 8:45 am]

BILLING CODE 4910-06-P